DEPARTMENT OF TRANSPORTATION

Federal Aviation Administration

14 CFR Part 39

[Docket No. FAA-2011-0390; Directorate Identifier 2011-NM-064-AD; Amendment 39-16696; AD 2011-10-15]

RIN 2120-AA64

Airworthiness Directives; Airbus Model A318-112, A319-111, A319-112, A319-115, A319-132, A319-133, A320-214, A320-232, A320-233, A321-211, A321-213, and A321-231 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

Electrical discontinuity has been detected on terminal modules Part Number (P/N) NSA 937901M1604, manufactured by Deutsch, due to an insufficient crimping of the female contacts on the shunt, caused by a wrong setting of the crimping tool.

* * * * *

This condition, if not corrected, could potentially result in in-flight failure of the Electrical Flight Control System (EFCS) and consequent loss of control of the aeroplane. In addition, this condition could lead to a non detected passenger oxygen loss, which, in case of emergency, could result in a large number of passenger oxygen masks not being supplied with oxygen, possibly causing personal injuries.

This AD requires actions that are intended to address the unsafe condition described in the MCAI.

DATES: This AD becomes effective May 31, 2011.

The Director of the Federal Register approved the incorporation by reference of a certain publication listed in the AD as of May 31, 2011.

We must receive comments on this AD by June 27, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue, SW., Renton, Washington 98057-3356; telephone 425-227-1405; fax 425-227-1149.

SUPPLEMENTARY INFORMATION:

Discussion

The European Aviation Safety Agency (EASA), which is the Technical Agent for the Member States of the European Community, has issued EASA Airworthiness Directive 2011-0054, dated March 24, 2011 (referred to after this as “the MCAI″), to correct an unsafe condition for the specified products. The MCAI states:

Electrical discontinuity has been detected on terminal modules Part Number (P/N) NSA 937901M1604, manufactured by Deutsch, due to an insufficient crimping of the female contacts on the shunt, caused by a wrong setting of the crimping tool.

The investigations revealed that this manufacturing quality deficiency is related only to modules P/N NSA 937901M1604 with manufacturing date codes 08-14 and 08-18.

This condition, if not corrected, could potentially result in in-flight failure of the Electrical Flight Control System (EFCS) and consequent loss of control of the aeroplane. In addition, this condition could lead to a non detected passenger oxygen loss, which, in case of emergency, could result in a large number of passenger oxygen masks not being supplied with oxygen, possibly causing personal injuries.

For the reasons described above, this [EASA] AD requires the identification and replacement of the affected terminal modules. This [EASA] AD also prohibits the installation of the affected modules on any aeroplane as replacement parts.

You may obtain further information by examining the MCAI in the AD docket.

Relevant Service Information

Airbus has issued Service Bulletin A320-92A1072, including Appendix 01, dated March 13, 2009. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because a discrepant terminal module could potentially result in an in-flight failure of the EFCS, resulting in loss of control of the airplane. In addition, a discrepant terminal module could lead to latent failure of the passenger oxygen supply, and consequent loss of oxygen supply to the masks in the event of an emergency. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2011-0390; Directorate Identifier 2011-NM-064-AD″ at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,″ describes in more detail the scope of the Agency's authority.

We are issuing this rulemaking under the authority described in “Subtitle VII, Part A, Subpart III, Section 44701: General requirements.″ Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule″ under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-10-15 Airbus: Amendment 39-16696. Docket No. FAA-2011-0390; Directorate Identifier 2011-NM-064-AD.

Effective Date

(a) This airworthiness directive (AD) becomes effective May 31, 2011.

Affected ADs

(b) None.

Applicability

(c) This AD applies to Airbus Model A318-112, A319-111, A319-112, A319-115, A319-132, A319-133, A320-214, A320-232, A320-233, A321-211, A321-213, and A321-231 airplanes, certificated in any category, manufacturer serial numbers (MSN) 3603, 3605, 3607, 3610, 3613, 3615 to 3619 inclusive, 3622 to 3627 inclusive, 3629, 3631 to 3634 inclusive, 3636, 3639, 3645, 3647, 3653, 3655, 3657, 3660, 3661, 3663, 3671, 3675, 3687, 3689, 3691, 3694, 3696, 3700, 3702, 3704 and 3705.

Subject

(d) Air Transport Association (ATA) of America Code 92: Electric and Electronic Common Installation.

Reason

(e) The mandatory continued airworthiness information (MCAI) states:

Electrical discontinuity has been detected on terminal modules Part Number (P/N) NSA 937901M1604, manufactured by Deutsch, due to an insufficient crimping of the female contacts on the shunt, caused by a wrong setting of the crimping tool.

* * * * *

This condition, if not corrected, could potentially result in in-flight failure of the Electrical Flight Control System (EFCS) and consequent loss of control of the aeroplane. In addition, this condition could lead to a non detected passenger oxygen loss, which, in case of emergency, could result in a large number of passenger oxygen masks not being supplied with oxygen, possibly causing personal injuries.

Compliance

(f) You are responsible for having the actions required by this AD performed within the compliance times specified, unless the actions have already been done.

Actions

(g) Within 600 flight hours after the effective date of this AD, identify the manufacturing date code of each Deutsch module part number (P/N) NSA 937901M1604 installed on the airplane, which can be installed on electronics rack 103VU, pylon harnesses, S15/19 harnesses and/or electronics rack 80VU, as applicable. If any module with manufacturing date code 08-14 is installed on the electronics rack 103VU, pylon harnesses, or S15/19 harnesses; or if any module with manufacturing date code 08-14 or 08-18 is installed on the electronics rack 80VU; as applicable: Before further flight, replace each affected module with a serviceable part having the same part number but a different date code, in accordance with the Accomplishment Instructions of Airbus Service Bulletin A320-92A1072, dated March 13, 2009.

Parts Installation

(h) As of the effective date of this AD, no person may install, on any airplane, a Deutsch module P/N NSA 937901M1604 with a manufacturing date code of 08-14 or 08-18.

FAA AD Differences

Note: This AD differs from the MCAI and/or service information as follows: The MCAI prohibits installation of the part identified in paragraph (h) of this AD after accomplishing the actions specified in paragraph (g) of this AD, but this AD prohibits installation of the part as of the effective date of this AD.

Other FAA AD Provisions

(i) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue, SW., Renton, Washington 98057-3356; telephone 425-227-1405; fax 425-227-1149. Information may be e-mailed to: 9-ANM-116-AMOC-REQUESTS@faa.gov. Before using any approved AMOC, notify your appropriate principal inspector, or lacking a principal inspector, the manager of the local flight standards district office/certificate holding district office. The AMOC approval letter must specifically refer to this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI EASA Airworthiness Directive 2011-0054, dated March 24, 2011; and Airbus Service Bulletin A320-92A1072, dated March 13, 2009; for related information.

Material Incorporated by Reference

(k) You must use Airbus Service Bulletin A320-92A1072, excluding Appendix 01, dated March 13, 2009, to do the actions required by this AD, unless the AD specifies otherwise.

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to http://www.archives.gov/federal_register/code_of_federal_regulations/ibr_locations.html.

Issued in Renton, Washington, on April 28, 2011.
Kalene C. Yanamura,
Acting Manager, Transport Airplane Directorate, Aircraft Certification Service.

[FR Doc. 2011-11331 Filed 5-12-11; 8:45 am]

BILLING CODE 4910-13-P